FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011741-002.

Title: U.S. Pacific Coast-Oceania Agreement.

Parties:

P&O Nedlloyd Limited/P&O Nedlloyd B.V.

Australia-New Zealand Direct Line

Hamburg-Sud KG

Fesco Ocean Management Limited (“Fesco”)

Synopsis: The proposed amendment authorizes all of the parties except Fesco to share and distribute certain cost savings realized under the agreement.

Agreement No.: 201126.

Title: Oakland/Hanjin/Total Terminals Agreement.

Parties:

Port of Oakland

Hanjin Shipping Company, Ltd.

Total Terminals International, LLC

Synopsis: The proposed agreement provides for the assumption of certain of Hanjin's financial responsibilities at Berths 55-56 (Oakland). The agreement runs through December 31, 2004.

Dated: August 10, 2001.
By Order of the Federal Maritime Commission.
Bryant L. VanBrakle,
Secretary.

[FR Doc. 01-20557 Filed 8-14-01; 8:45 am]

BILLING CODE 6730-01-P